DEPARTMENT OF JUSTICE

Notice of Lodging of Settlement Pursuant to Clean Air Act

Notice is hereby given that, on March 23, 2007, a proposed Consent Decree in United States v. Nacirema Environmental Services Company, Inc., Civil Action No. 07-1361, was lodged with the United States District Court for the District of New Jersey.

In this action, the United States sued Nacirema Environmental Services Company, Inc. for violations of the Clean Air Act (“Act”), 42 U.S.C. 7401-7671q, and the National Emission Standard for Hazardous Air Pollutants for asbestos (“Asbestos NESHAP”), 40 CFR Part 61, Subpart M, in connection with Nacirema's failure to provide advanced notice to the U.S. Environmental Protection Agency (“EPA”) of the demolition of at least 18 facilities in New Jersey and New York, its failure to comply with an EPA request for information, and its failure to comply with an EPA Administrative Compliance Order requiring submission of that same information. The settlement requires Defendant to pay a civil penalty of $65,000, to spend an additional $65,000 on a supplemental environmental project involving asbestos abatement in low-income homes, and to provide additional injunctive relief including asbestos training for Nacirema employees and management reforms.

The Department of Justice will accept comments relating to the settlement for a period of thirty (30) days from the date of publication of this Notice. Comments should be addressed to the Assistant Attorney General, Environment and Natural Resources Division, and mailed either electronically to pubcomment-ees.enrd@usdoj.gov or in hard copy to P.O. Box 7611, U.S. Department of Justice, Washington, DC 20044-7611. Comments should refer to U.S. v. Nacirema Environmental Services Company, Inc., DJ No. 90-5-2-1-08411.

The proposed Consent Decree may be examined at the Office of the United States Attorney, District of New Jersey, 970 Broad Street, Suite 700, Newark, New Jersey 07101. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood at tonia.fleetwood@usdoj.gov, or at fax no. (202) 514-0097, phone confirmation number (202) 514-1547. In requesting a copy from the Consent Decree Library, please enclose a check in the amount of $14 (25 cents per page reproduction cost) payable to the U.S. Treasury or, if by e-mail or fax, forward a check in that amount to the Consent Decree Library at the above-referenced address.

Ronald Gluck,
Assistant Chief, Environmenal Enforcement Section, Environment and Natural Resources Division.

[FR Doc. 07-1653 Filed 4-4-07; 8:45am]

BILLING CODE 4410-15-M